NATIONAL SCIENCE FOUNDATION

Advisory Committee for Mathematical Sciences and Physical Sciences #66; Notice of Meeting

In accordance with the Federal Advisory Committee Act (Pub. L. 92-463, as amended), the National Science Foundation announces the following meeting.

Name: Advisory Committee for Mathematical Sciences and Physical Sciences (#66).

Dates/Time: April 4, 2013, 1:00 p.m.-5:00 p.m.; April 5, 2013, 8:30 a.m.—12:00 noon.

Place: National Science Foundation (NSF), 4201 Wilson Boulevard, Arlington, VA 22230. To help facilitate your entry into the building, contact the individual listed below. Your request to attend this meeting must be received by email (cmorgan@nsf.gov) on or prior to April 1, 2013.

Type of Meeting: Open, Virtual.

Contact Person: Dr. Kelsey Cook, Staff Associate and MPSAC Designated Federal Officer, Directorate for Mathematical and Physical Sciences, National Science Foundation, 4201 Wilson Blvd., Arlington, VA 22230 Telephone #: 703-292-7490, 703-292-8800—kcook@nsf.gov.

Minutes: Meeting minutes and other information may be obtained from the Staff Associate and MPSAC Designated Federal Officer at the above address or the Web site at http://www.nsf.gov/mps/advisory.jsp.

Purpose of Meeting: To study data, programs, policies, and other information pertinent to the National Science Foundation and to provide advice and recommendations concerning research in mathematics and physical sciences.

Agenda

Thursday, April 4, 2013, 1:00 p.m.-5:15 p.m.

• State of the Directorate for Mathematical and Physical Sciences

• Report of CHE and DMS Committee of Visitor Reports

• Status Planning Reports: Synchrotron Science Subcommittee, Optics & Photonics Subcommittee; Food/Energy/Water Subcommittee

• Update from the Stats NSF Subcommittee

• Report on Merit Review pilots

• Impact of new travel policies

• New OSTP Open Access policy and NSF response

• Prepare for meeting with OD: MPS issues and challenges

Friday, April 5, 2013, 8:30 a.m.-12:00 noon

• Meeting with NSF Acting Director

• Reports from the Advisory Committee for Cyberinfrastructure, the Advisory Committee for Environmental Research and Education, the Committee on Equal Opportunities in Science and Engineering, and the Advisory Committee for International Science and Engineering.

• Plans and Upcoming Challenges

Dated: March 14, 2013.
Susanne Bolton,
Committee Management Officer.

[FR Doc. 2013-06312 Filed 3-19-13; 8:45 am]

BILLING CODE 7555-01-P